INTERNATIONAL TRADE COMMISSION

[USITC SE-19-019]

Sunshine Act Meetings

Agency Holding the Meeting: United States International Trade Commission.

TIME AND DATE: May 29, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-603-604 and 731-TA-1413-1414 (Final) (Glycine from China, India, and Japan). The Commission is currently scheduled to complete and file its determinations and views of the Commission by June 14, 2019.

5. Vote on Inv. Nos. 701-TA-447 and 731-TA-1116 (Second Review) (Circular Welded Carbon-Quality Steel Pipe from China). The Commission is currently scheduled to complete and file its determinations and views of the Commission by August 5, 2019.

6. Outstanding action jackets: None.

In accordance with Commission policy, subject matter listed above, not disposed of at the scheduled meeting, may be carried over to the agenda of the following meeting.

By order of the Commission.
Issued: May 21, 2019.
William Bishop,
Supervisory Hearings and Information Officer.

[FR Doc. 2019-10919 Filed 5-21-19; 4:15 pm]

BILLING CODE 7020-02-P